DEPARTMENT OF THE INTERIOR

Geological Survey

Technology Transfer Act of 1986

AGENCY: U.S. Geological Survey, Interior.

ACTION: Notice of proposed Cooperative Research & Development Agreement (CRADA) Negotiations.

SUMMARY: The United States Geological Survey (USGS) is contemplating entering into a Cooperative Research and Development Agreement (CRADA) with Alpha DVD, LLC for the development of DVD formats relating to earth science topics.

Inquiries: If any other parties are interested in similar activities with the USGS, please contact Jerry McFaul, U.S. Geological Survey, 12201 Sunrise Valley Drive, MS 918, Reston, Virginia, 20192, telephone (703) 648-7126.

SUPPLEMENTARY INFORMATION: This notice is submitted to meet the USGS requirements stipulated in Survey Manual Chapter 500.20.

P. Patrick Leahy,
Associate Director for Geology, U.S. Geological Survey.

[FR Doc. 01-23575 Filed 9-20-01; 8:45 am]

BILLING CODE 4310-Y7-M